DEPARTMENT OF COMMERCE

National Institute of Standards and Technology

Visiting Committee on Advanced Technology

AGENCY: National Institute of Standards and Technology, Department of Commerce.

ACTION: Notice of public meeting.

SUMMARY: Pursuant to the Federal Advisory Committee Act, 5 U.S.C. app. 2, notice is hereby given that the Visiting Committee on Advanced Technology (VCAT), National Institute of Standards and Technology (NIST), will meet Wednesday, October 14, 2009, from 8:30 a.m. to 5 p.m. and Thursday, October 15, 2009, from 8:30 a.m. to 11:45 a.m. The Visiting Committee on Advanced Technology is composed of fifteen members appointed by the Director of NIST who are eminent in such fields as business, research, new product development, engineering, labor, education, management consulting, environment, and international relations.

The purpose of this meeting is to review and make recommendations regarding general policy for the Institute, its organization, its budget, and its programs within the framework of applicable national policies as set forth by the President and the Congress. The theme for this meeting is “NIST's Laboratory Programs and their Importance to Documentary Standards Development and Implementation.” Based on the discussions held at the previous VCAT meeting with the same theme, this meeting will focus on cybersecurity. The first day's agenda will include an update on NIST; an overview of the NIST role in cybersecurity standards; a presentation on the importance of NIST laboratory research programs to cybersecurity standards; external perspectives from two guest speakers on the issues and challenges associated with cybersecurity; presentations on NIST role and research in quantum information science; and laboratory tours. On the second day, the agenda calls for a discussion with the Committee related to the theme of the meeting followed by the VCAT's feedback on summary findings for the 2009 Annual Report. The agenda may change to accommodate Committee business. The final agenda will be posted on the NIST Web site at http://www.nist.gov/director/vcat/agenda.htm.

DATES: The meeting will convene on October 14, 2009 at 8:30 a.m. and will adjourn on October 15, 2009, at 11:45 a.m.

ADDRESSES: The meeting will be held in Building 1, Room 1107, at the National Institute of Standards and Technology, Boulder, Colorado 80305-3328. Please note admittance instructions under the SUPPLEMENTARY INFORMATION section of this notice.

FOR FURTHER INFORMATION CONTACT: Stephanie Shaw, Visiting Committee on Advanced Technology, National Institute of Standards and Technology, Gaithersburg, Maryland 20899-1060, telephone number (301) 975-2667. Ms. Shaw's e-mail address is stephanie.shaw@nist.gov.

SUPPLEMENTARY INFORMATION: Individuals and representatives of organizations who would like to offer comments and suggestions related to the Committee's affairs are invited to request a place on the agenda. On October 15, 2009, approximately one-half hour will be reserved for public comments, and speaking times will be assigned on a first-come, first-serve basis. The amount of time per speaker will be determined by the number of requests received, but is likely to be about 3 minutes each. The exact time for public comments will be included in the final agenda that will be posted on the NIST Web site at http://www.nist.gov/director/vcat/agenda.htm. Questions from the public will not be considered during this period. Speakers who wish to expand upon their oral statements, those who had wished to speak but could not be accommodated on the agenda, and those who were unable to attend in person are invited to submit written statements to the VCAT, National Institute of Standards and Technology, 100 Bureau Drive, MS 1060, Gaithersburg, Maryland 20899, via fax at 301-216-0529 or electronically by e-mail to gail.ehrlich@nist.gov.

All visitors to the NIST site will have to pre-register to be admitted. Please submit your name, time of arrival, e-mail address and phone number to Stephanie Shaw no later than Friday, October 9, 2009, and she will provide you with instructions for admittance. Ms. Shaw's e-mail address is stephanie.shaw@nist.gov and her phone number is (301) 975-2667.

Dated: August 24, 2009.
Katharine Gebbie,
Director, Physics Laboratory.

[FR Doc. E9-20837 Filed 8-27-09; 8:45 am]

BILLING CODE 3510-13-P